NUCLEAR REGULATORY COMMISSION

[Docket No. 50-261]

Carolina Power & Light (CP&L), H.B. Robinson Steam Electric Plant, Unit No. 2; Notice of Receipt of Application for Renewal of Facility Operating License No. DPR-23 for an Additional 20-Year Period

On June 17, 2002, the U.S. Nuclear Regulatory Commission received, by letter dated June 14, 2002, an application from the Carolina Power & Light (CP&L) Company, filed pursuant to section 104b of the Atomic Energy Act of 1954, as amended, and 10 CFR part 54, which would authorize the applicant to operate the H. B. Robinson Steam Electric Plant (HBRSEP), Unit 2, for an additional 20-year period. In this application, HBRSEP, Unit No. 2, is referred to as the Robinson Nuclear Plant (RNP). The current operating license for RNP expires on July 31, 2010. RNP is a pressurized water reactor designed by Westinghouse Electric Company and is located in Hartsville, South Carolina. The acceptability of the tendered application for docketing and other matters, including an opportunity to request a hearing, will be the subject of a subsequent Federal Register notice.

Copies of the application are available for public inspection at the Commission's Public Document Room, located at One White Flint North, 11555 Rockville Pike (first floor), Rockville, Maryland, or electronically from the Publicly Available Records (PARS) component of the NRC's Agencywide Documents Access and Management System (ADAMS). The ADAMS Public Electronic Reading Room is accessible from the NRC Web site at http://www.nrc.gov/NRC/ADAMS/index.html. In addition, the application is available on the NRC Web page at http://www.nrc.gov/NRC/REACTOR/LR/index.html. If you do not have access to ADAMS, or if there are problems in accessing the documents located in ADAMS, please contact the NRC Public Document Room (PDR) Reference staff at 1-800-397-4209, 301-415-4737 or by e-mail to pdr@nrc.gov.

The license renewal application for the Robinson Nuclear Plant is also available to local residents at the Hartsville Memorial Library, in Hartsville, SC.

Dated at Rockville, Maryland, this 15th day of July, 2002.
For the Nuclear Regulatory Commission.
Pao-Tsin Kuo,
Program Director, License Renewal and Environmental Impact Program,Division of Regulatory Improvement Programs,Office of Nuclear Reactor Regulation.

[FR Doc. 02-18240 Filed 7-17-02; 8:45 am]

BILLING CODE 7590-01-P